MISSISSIPPI RIVER COMMISSION

Sunshine Act Meetings

Agency Holding the Meetings: Mississippi River Commission.

Time and Date: 9 a.m., August 11, 2008.

Place: On board MISSISSIPPI V at Levee Park, Red Wing, MN.

Status: Open to the public.

Matters to be Considered: (1) Summary report by President of the Commission on national and regional issues affecting the U.S. Army Corps of Engineers and Commission programs and projects on the Mississippi River and its tributaries; (2) District Commander's overview of current project issues within the St. Paul District; and (3) Presentations by local organizations and members of the public giving views or comments on any issue affecting the programs or projects of the Commission and the Corps of Engineers.

Time and Date: 9 am., August 13, 2008.

Place: On board MISSISSIPPI V at Oneida Landing, Davenport, IA.

Status: Open to the public.

Matters to be Considered: (1) Summary report by President of the Commission on national and regional issues affecting the U.S. Army Corps of Engineers and Commission programs and projects on the Mississippi River and its tributaries; (2) District Commander's overview of current project issues within the Rock Island District; and (3) Presentations by local organizations and members of the public giving views or comments on any issue affecting the programs or projects of the Commission and the Corps of Engineers.

Time and Date: 1:30 p.m., August 14, 2008.

Place: On board MISSISSIPPI V at City Front, Hannibal, MO.

Status: Open to the public for observation but not for participation.

Matters to be Considered: The Commission will consider the Upper Mississippi Illinois River Comprehensive Plan.

Time and Date: 9 a.m., August 15, 2008.

Place: On board MISSISSIPPI V at Melvin Price Lock & Dam, Alton, IL.

Status: Open to the public.

Matters to be Considered: (1) Summary report by President of the Commission on national and regional issues affecting the U.S. Army Corps of Engineers and Commission programs and projects on the Mississippi River and its tributaries; (2) District Commander's overview of current project issues within the St. Louis District and; (3) Presentations by local organizations and members of the public giving views or comments on any issue affecting the programs or projects of the Commission and the Corps of Engineers.

Time and Date: 9 a.m., August 18, 2008.

Place: On board MISSISSIPPI V at City Front, New Madrid, MO.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or of the Commission and the Corps of Engineers.

Time and Date: 9 a.m., August 19, 2008.

Place: On board MISSISSIPPI V at Mud Island River Park, Memphis, TN.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or of the Commission and the Corps of Engineers.

Time and Date: 9 a.m., August 20, 2008.

Place: On board MISSISSIPPI V at City Front, Greenville, MS.

Status: Open to the public.

Matters to be Considered: (1) Summary report by President of the Commission on national and regional issues affecting the U.S. Army Corps of Engineers and Commission programs and projects on the Mississippi River and its tributaries; (2) District Commander's overview of current project issues within the Vicksburg District; and (3) Presentations by local organizations and members of the public giving views or comments on any issue affecting the programs or of the Commission and the Corps of Engineers.

Time and Date: 9 a.m., August 22, 2008.

Place: On board MISSISSIPPI V at Cenac Towing Co. Dock, Houma, LA.

Status: Open to the public.

Matters to be Considered: (1) Summary report by President of the Commission on national and regional issues affecting the U.S. Army Corps of Engineers and Commission programs and projects on the Mississippi River and its tributaries; (2) District Commander's overview of current project issues within the New Orleans District; and (3) Presentations by local organizations and members of the public giving views or comments on any issue affecting the programs or of the Commission and the Corps of Engineers.

Contact Person for More Information: Mr. Stephen Gambrell, telephone 601-634-5766.

Timothy S. Gambrell,
Executive Director, Mississippi River Commission.

[FR Doc. E8-15776 Filed 7-16-08; 8:45 am]

BILLING CODE 3710-GX-M